DEPARTMENT OF JUSTICE

Drug Enforcement Administration

[OMB Number 1117-0042]

Agency Information Collection Activities: Proposed Collection; Comments Requested: National Clandestine Laboratory Seizure Report

ACTION: 60-Day Notice.

The Department of Justice (DOJ), Drug Enforcement Administration (DEA), will be submitting the following information collection request to the Office of Management and Budget (OMB) for review and approval in accordance with the Paperwork Reduction Act of 1995. The proposed information collection is published to obtain comments from the public and affected agencies. Comments are encouraged and will be accepted until September 13, 2013. This process is conducted in accordance with 5 CFR 1320.10.

If you have comments, especially on the estimated public burden or associated response time, suggestions, or need a copy of the proposed information collection instrument with instructions or additional information, please contact Clark R. Fleming, Field Division Counsel, El Paso Intelligence Center, 11339 SSG Sims Blvd., El Paso, TX 79908.

Written comments and suggestions from the public and affected agencies concerning the proposed collection of information are encouraged. Your comments should address one or more of the following four points:

• Evaluate whether the proposed collection of information is necessary for the proper performance of the functions of the agency, including whether the information will have practical utility;

• Evaluate the accuracy of the agencies estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Overview of Information Collection 1117-0042

(1) Type of Information Collection: Extension of a currently approved collection.

(2) Title of the Form/Collection: National Clandestine Laboratory Seizure Report.

(3) Agency form number, if any and the applicable component of the Department sponsoring the collection:

Form number: EPIC Form 143.

Component: El Paso Intelligence Center, Drug Enforcement Administration, U.S. Department of Justice.

(4) Affected public who will be asked or required to respond, as well as a brief abstract:

Primary: State, Local or Tribal Government.

Other: None.

Abstract: Records in this system are used to provide clandestine laboratory seizure information to the El Paso Intelligence Center, Drug Enforcement Administration, and other Law enforcement agencies, in the discharge of their law enforcement duties and responsibilities.

(5) An estimate of the total number of respondents and the amount of time estimated for an average respondent to respond: There are one thousand two hundred sixty-seven (1267) total respondents for this information collection. Eight thousand eight hundred seventy-eight (8878) responded using paper at 1 hour a response and four thousand five hundred twenty-four (4524) responded electronically at 1 hour a response, for thirteen thousand four hundred two (13,402) annual responses.

(6) An estimate of the total public burden (in hours) associated with the collection: It is estimated that there are 13,402 annual burden hours associated with this collection.

If additional information is required contact: Jerri Murray, Department Clearance Officer, Policy and Planning Staff, Justice Management Division, Department of Justice, Two Constitution Square, 145 N Street NE., Suite 3W-1407B, Washington, DC 20530.

Dated: July 10, 2013.
Jerri Murray,
Department Clearance Officer for PRA, U.S. Department of Justice.

[FR Doc. 2013-16866 Filed 7-12-13; 8:45 am]

BILLING CODE 4410-09-P